DEPARTMENT OF JUSTICE

[OMB Number 1125-0021]

Agency Information Collection Activities; Proposed Collection eComments Requested; Title—Notice of Entry of Limited Appearance for Document Assistance Before the Board of Immigration Appeals (Form EOIR-60); and Notice of Entry of Limited Appearance for Document Assistance Before the Immigration Court (Form EOIR-61)

AGENCY: Executive Office for Immigration Review, Department of Justice.

ACTION: 30-Day notice.

SUMMARY: The Executive Office for Immigration Review (EOIR), Department of Justice (DOJ), will be submitting the following information collection request (ICR) to the Office of Management and Budget (OMB) for review and approval in accordance with the Paperwork Reduction Act of 1995.

DATES: Comments are encouraged and will be accepted for 30 days until September 8, 2025.

FOR FURTHER INFORMATION CONTACT: If you have comments, especially on the estimated public burden or associated response time, suggestions, or need a copy of the proposed information collection instrument with instructions or additional information, please contact: Justine Fuga, Associate General Counsel, Office of the General Counsel, Executive Office for Immigration Review, 5107 Leesburg Pike, Suite 2600, Falls Church, VA 22041, telephone: (703) 305-0265, Justine.Fuga@usdoj.gov, eoir.pra.comments@usdoj.gov.

SUPPLEMENTARY INFORMATION: The proposed information collection was previously published in the Federal Register on June 3, 2025, allowing a 60-day comment period. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1125-0016. This ICR may be viewed at www.reginfo.gov. Follow the instructions to view Department of Justice information collections currently under review by OMB.

DOJ seeks PRA authorization for this information collection for three (3) years. OMB authorization for an ICR cannot be for more than three (3) years without renewal. The DOJ notes that information collections submitted to the OMB for existing ICRs receive a month-to-month extension while they undergo review.

Overview of This Information Collection

1. Type of Information Collection: Extension and Revision of a previously approved collection.

2. Title of the Form/Collection: Notice of Entry of Limited Appearance for Document Assistance Before the Board of Immigration Appeals; and Notice of Entry of Limited Appearance for Document Assistance Before the Immigration Court.

3. Agency form number, if any, and the applicable component of the Department of Justice sponsoring the collection: The agency form numbers are EOIR-60 and EOIR-61, and the sponsoring DOJ component is EOIR.

4. Affected public who will be asked or required to respond, as well as a brief abstract:

Affected Public: Individuals, Attorneys and Representatives entering a limited appearance to assist a pro se respondent with a legal filing or other document to be filed with EOIR.

Abstract: This information collection reauthorization and revision is necessary to allow an attorney or representative to notify the Board of Immigration Appeals (Board) or the Immigration Court that he or she is entering a limited appearance to assist a pro se respondent with a legal filing or other document to be filed with EOIR. Pursuant to the Final Rule, Professional Conduct for Practitioners—Rules and Procedures, and Representation and Appearances, 87 FR 56247 (Sept. 14, 2022) (effective Nov. 14, 2022), amending the regulations at 8 CFR 1003.2(g)(1), 1003.17(b) and (c), and 1003.38(g)(2), the agency received OMB approval to issue separate stand-alone forms for the entry of a limited appearance for document assistance before each adjudicatory component as the most appropriate method for the collection of this information. The separate forms EOIR-60 and EOIR-61 are intended to provide greater clarity to the practitioners using the forms, the pro se respondents who are only engaging with the practitioners in a limited capacity, and for the EOIR staff processing the forms. EOIR is revising the forms to account for expanded electronic filing options with the launch of the online EOIR Courts and Appeals System (ECAS) Respondent Access Portal (RAP) in July 2024. EOIR made revisions to Forms EOIR-60 and EOIR-61 to include updates to remove the mail only filing restrictions and inform the users that they may review the EOIR Policy Manual for filing guidance. The Proof of Service section has been revised to include an option for individuals to indicate that they are serving the opposing party electronically through ECAS. The Privacy Act notice is also revised to correct the citation to the system of records notice (SORN) for the Attorney Discipline System, JUSTICE/EOIR-003, published at 85 FR 32423 (May 29, 2020), and to inform respondents that limited case information is also available online in English or Spanish through the EOIR Automated Case Information System at https://acis.eoir.justice.gov/en/. Finally, a sentence was added to the second page of the Form EOIR-60 to clarify and emphasize that limited appearances for document assistance are not available in Department of Homeland Security (DHS) proceedings that the Board has jurisdiction over.

5. Obligation to Respond: This information collection is mandatory and required to enter an appearance before EOIR as authorized by 8 U.S.C. 1229(a), 1362 and 8 CFR 1003.38. Failure to provide the requested information will result in an inability to enter a limited appearance for document assistance.

6. Total Estimated Number of Respondents: It is estimated that 40 respondents will complete Form EOIR-60 filed with the Board. It is estimated that 22,018 respondents will complete Form EOIR-61 filed with the Immigration Courts.

7. Estimated Time per Respondent: 6 minutes (0.1 hour).

8. Frequency: Once a year.

9. Total Estimated Annual Time Burden: The total annual burden hours for Forms EOIR-60 and EOIR-61 is 2,206 hours.

10. Total Estimated Annual Other Costs Burden: There are no capital or start-up costs associated with these forms. There are no fees to file the forms. The forms may be filed electronically to eliminate printing and postage costs. Attorneys or other authorized representatives are expected to complete the forms. The United States Bureau of Labor Statistics estimates the median hourly fee for attorneys at $72.67. Therefore, the cost for an attorney or other authorized representative to complete the form in 6 minutes is estimated at $7.27 per submission ($72.67 per hour × 0.10 hours × 1 response = $7.27 per response). The total annual estimated cost burden to individuals is $160,310.02 (2,206 total estimated burden hours × $72.67 per hour).

If additional information is required, contact: Darwin Arceo, Department Clearance Officer, Policy and Planning Staff, Justice Management Division, United States Department of Justice, Two Constitution Square, 145 N Street NE, 4W-218 Washington, DC 20530.

Dated: August 5, 2025.
Darwin Arceo,
Department Clearance Officer for PRA, U.S. Department of Justice.

[FR Doc. 2025-15001 Filed 8-6-25; 8:45 am]

BILLING CODE 4410-30-P